DEPARTMENT OF THE INTERIOR

National Park Service

36 CFR Parts 1, 2, and 7

[NPS-WASO-REGS-12881; PXXVPAD0517.00.1]

RIN 1024-AE06

Areas of the National Park System; General Provisions, Resource Protection, Public Use and Recreation, Pets and Service Animals; Special Regulations of the National Park System, Olympic National Park, Isle Royale National Park

AGENCY: National Park Service, Interior.

ACTION: Proposed rule.

SUMMARY: The National Park Service is proposing to define and differentiate service animals, from pets, domestic animals, feral animals, livestock, and pack animals, and describe the circumstances under which service animals would be allowed in a park area. Special regulations for Olympic National Park and Isle Royale National Park would be amended to conform with the proposed service-wide rule.

DATES: Comments must be received by June 17, 2014.

ADDRESSES: You may submit your comments, identified by Regulation Identifier Number (RIN) 1024-AE06, by any of the following methods:

• Federal eRulemaking Portal: http://www.regulations.gov. Follow the instructions for submitting comments.

• Mail to: A.J. North, Regulations Program, National Park Service, 1849 C Street NW., MS-2355, Washington, DC 20240.

Instructions: All submissions received must include the agency name and RIN for this rulemaking. All comments received will be posted without change to http://www.regulations.gov, including any personal information provided. For additional information, see the Public Participation heading of the SUPPLEMENTARY INFORMATION section of this document.

Docket: For access to the docket to read background documents or comments received, go to http://www.regulations.gov.

FOR FURTHER INFORMATION CONTACT: A.J. North, National Park Service Regulations Program, by telephone: 202-513-7742 or email: service_animals@nps.gov.

SUPPLEMENTARY INFORMATION:

Background

General Authority and Jurisdiction

In the National Park Service Organic Act of 1916 (Organic Act) (16 U.S.C. 1 et seq.), Congress granted the National Park Service (NPS) broad authority to regulate the use of areas under its jurisdiction, but the associated impacts must leave the “scenery and the natural and historic objects and the wild life [in these areas] unimpaired for the enjoyment of future generations.” Section 3 of the Organic Act authorizes the Secretary of the Interior, acting through the NPS, to “make and publish such rules and regulations as he may deem necessary or proper for the use and management of the parks.”

The NPS protects park resources and visitors by regulating pets and other domestic animals within park areas. The regulations governing pets (36 CFR 2.15) were last amended in 1983. Since 1983, federal statutes governing accessibility for persons with disabilities, as well as the use of service animals, have changed significantly. In response to these changes, the NPS is proposing to amend its regulations to ensure that we provide the broadest possible accessibility to individuals with disabilities.

The proposed rule would define and differentiate service animals from pets, domestic animals, feral animals, livestock, and pack animals and describe the circumstances under which service animals would be allowed in a park area. The rule also ensures NPS compliance with Section 504 of the Rehabilitation Act of 1973 (29 U.S.C. 794), as amended, and better aligns NPS regulations with the Americans with Disabilities Act of 1990 (ADA) (42 U.S.C. 12111-12117) and the Department of Justice (DOJ) service animal regulations (28 CFR part 35 and 36). Section 504 of the Rehabilitation Act states,

No otherwise qualified individual with a disability in the United States . . . shall, solely by reason of her or his disability, be excluded from the participation in, be denied the benefits of, or be subjected to discrimination under any program or activity receiving Federal financial assistance or . . . conducted by any Executive Agency . . . (29 U.S.C. 794)

This law requires the NPS to provide persons with disabilities access to park programs, services, and facilities, and the opportunity to receive as close as possible the same benefits as those received by other visitors.

The ADA, which does not apply to the federal government, extends a legal mandate similar to the coverage of Section 504 of the Rehabilitation Act to all state and local governments and to places of public accommodations and commercial facilities. Although the NPS is not governed by the ADA, NPS policy, as expressed in NPS Director's Order #42, is to align its regulations with the ADA and make NPS facilities, programs, and services accessible to and usable by as many people as possible, including those with disabilities. It is also NPS policy to follow, as appropriate, the DOJ regulations that implement title II and III of the ADA.

History of Service Animal Regulation in the Parks

NPS regulations first addressed the predecessor to service animals in 1966, when the existing rule at 36 CFR 2.8(b) prohibiting pets in “public eating places, food stores and on designated swimming beaches” was revised to include an exception for “Seeing Eye dogs” (31 FR 16650). This exception was expanded in 1983 to encompass “guide dogs accompanying visually impaired persons or hearing ear dogs accompanying hearing-impaired persons” (48 FR 30252). Because these dogs provide direct services for persons with disabilities, they are not considered pets under NPS regulations. Accordingly, guide dogs and hearing ear dogs have been allowed to enter park areas where pets are prohibited.

In 1991, after the passage of the ADA, the DOJ expanded the definition of service animals to include “any guide dog, signal dog, or other animal trained to do work or perform tasks for the benefit of an individual with a disability” (56 FR 35544). After the DOJ broadened the definition of service animal, a number of parks began receiving requests from the public to bring a variety of service animals into the parks, including, but not limited to: dogs, cats, horses, primates, goats, birds, rodents, and reptiles. Over the years, this has resulted in some confusion within the NPS, because the regulations at 36 CFR 2.15(a)(1) recognize only guide dogs and hearing ear dogs as exceptions to the prohibitions on pets in certain public areas. These requests have also caused park personnel to voice concerns regarding threats to wildlife if other species of animals were allowed into areas where pets are prohibited.

NPS Interim Guidance on Service Animals

On September 5, 2002, the NPS Director issued a Memorandum providing interim guidance on the use of service animals in units of the National Park System while the NPS began the process of amending its regulations to adopt the broader range of service animal as specified in the 1991 DOJ regulations (28 CFR 36.104). According to the Memorandum, service animals were not to be considered pets, and in general, when accompanying a person with a disability (as defined by Federal law and DOJ regulations), service animals were to be allowed wherever visitors were allowed. Due to the concern for visitor safety and wildlife protection, park superintendents retained authority to close an area to the use of service animals if it was determined that the service animal posed a threat to the health or safety of people or wildlife. The NPS immediately implemented the interim guidance. However, park superintendents continue to express concerns regarding the appropriateness of allowing certain types of animals declared to be service animals in parks.

DOJ Revised ADA Regulations

On September 15, 2010, the DOJ published revised regulations implementing title II and III of the ADA, including a new definition of service animal that limits service animals to dogs. Under the revised DOJ regulations, a service animal is defined as “any dog that is individually trained to do work or perform tasks for the benefit of an individual with a disability, including a physical, sensory, psychiatric, intellectual, or other mental disability.” (28 CFR 35.104 and 36.104). The revised definition states that other species of animals are not service animals.

The DOJ revised regulations also state that “[t]he work or tasks performed by a service animal must be directly related to the individual's disability.” (28 CFR 35.104 and 36.104). Examples of the appropriate work of service animals include, but are not limited to, assisting individuals who are blind with navigation, alerting individuals who are deaf to the presence of sounds, pulling a wheelchair, alerting individuals to the presence of allergens or the onset of a seizure, retrieving items, and providing physical support and assistance to individuals with mobility disabilities. The DOJ regulations state that, “[t]he crime deterrent effects of an animal's presence and the provision of emotional support, well-being, comfort, or companionship do not constitute work or tasks for the purposes of this definition.”

According to the DOJ regulations, a public entity may require an individual with a disability to remove a service animal from the premises if: (a) The animal is out of control and the animal's handler does not take effective action to control it; or (b) the animal is not housebroken (28 CFR 35.136(b)). If a service animal is excluded for these reasons, the public entity must give the individual with the disability the opportunity to participate in the service, program, or activity without having the service animal on the premises (28 CFR 35.136(c)).

The DOJ revised regulations also include a provision that requires covered entities to make reasonable modifications to policies, practices, or procedures to permit the use of a miniature horse by a person with a disability if the miniature horse has been individually trained to do work or perform tasks for the benefit of the individual with a disability. Although the miniature horse is not included in the DOJ's definition of service animal (which is limited to dogs), miniature horses can be trained in ways similar to dogs to provide a wide array of services to their handlers, such as guiding individuals who are blind or have low vision, pulling wheelchairs, providing stability and balance for individuals with disabilities that impair the ability to walk, and supplying leverage that enables a person with a mobility disability to get up after a fall. Miniature horses may also serve as viable alternatives to dogs for individuals with allergies, or for those whose religious beliefs preclude the use of dogs. Miniature horses commonly are sized similar to a large dog at heights of 24 to 34 inches measured to the shoulders and generally weigh between 70 and 100 pounds. However, because miniature horses can vary in size and be larger and less flexible than dogs, the revised DOJ regulations allow entities to exclude miniature horses if the presence of the animal results in a fundamental alteration to the nature of the programs, activities, or services provided.

Proposed Rule

Although the NPS is not a regulated entity under the ADA, the NPS intends to allow qualified individuals with disabilities to bring working service animals and miniature horses to the parks in the manner as provided for in the DOJ title II and III regulations governing service animals. Consistent with DOJ regulations, the proposed rule would define a service animal as a dog that is individually trained to do work or perform tasks for persons with disabilities. Other species of animals, whether wild or domestic, trained or untrained, would not be considered service animals. The work or tasks a service animal is trained to perform must be directly related to the person's disability. A dog utilized solely for comfort or emotional support would not be considered a service animal and would be subject to the regulations governing pets.

Revision of NPS Regulations at 36 CFR 1.4

Section 1.4 would be amended to add the terms disability and service animal and to modify the term pet. These definitions would distinguish pets used primarily for companionship from service animals trained to assist a person with a disability.

The term domestic animal would be added and defined to mean an animal tamed to live in the human environment. The term feral animal would be added and defined to mean a domestic animal that is existing in a wild or untamed state. The definition of pack animal would be revised and would no longer be limited to “horses, burros, mules, or other hoofed animals.” The existing language may unnecessarily exclude consideration of certain types of pack animals that do not have proper hooves, including alpacas, llamas, and camels. Instead, the term pack animal would mean a domestic animal designated as a pack animal by the superintendent. This gives the superintendent the authority to adjust rules about the use of particular pack animals after considering the impact from this use on the park environment. The definition of the term livestock would be added to distinguish farm animals utilized for agricultural use from pets, service animals, and pack animals.

Amending § 1.4 to differentiate pets, service animals, pack animals, and livestock from each other would clarify the regulations governing domestic animals in the National Park System. For example, if a visitor wishes to bring a goat into a park, the park would first look to the purpose or function of the goat. If the goat would be used to transport equipment on designated routes, and the superintendent has designated goats as pack animals, the goat would be considered a pack animal subject to 36 CFR 2.16. If the goat was being used primarily for the production of milk, it would be livestock subject to 36 CFR 2.60. If the goat was tamed to live in the human environment as a domesticated animal and not being used as a pack animal or livestock, the goat would be considered a pet subject to 36 CFR 2.15. Because the goat is not a dog trained to do work for the benefit of a person with a disability, the goat could not be a service animal and thus would not be allowed in areas of the park where pets, livestock, or pack animals are prohibited.

Revision of NPS Regulations at 36 CFR 2.15

Service animals would be allowed in all NPS areas accessible to the public or employees except in those circumstances where the superintendent determines the presence of a service animal in a specific area would pose a threat to the health or safety of people or wildlife. In this case, the superintendent may impose additional conditions or restrictions or close the area to service animals. If the need for conditions or closures arises, the superintendent must prepare a written determination based on objective evidence of the threat that explains why a less restrictive measure will not suffice. If an area is closed to service animals, then that area must also be closed to pets.

After consultation with the U.S. Public Health Service's Wildlife Health Branch on the serious potential for disease transmission between service animals and wildlife, the NPS has determined that a superintendent may use this authority to require individuals wishing to bring a service animal into an area where the service animal is likely to pose a threat to the health of wildlife to demonstrate proof of the service animal's current vaccinations for diseases such as, but not limited to, rabies, distemper, parvovirus, and adenovirus, and proof of current treatment for intestinal parasites and heart worms. A superintendent may also require similar proof for miniature horses, such as, but not limited to, demonstration of a rabies vaccine and negative Coggins test for equine infectious anemia. An individual could demonstrate proof by showing a copy of a veterinarian bill for the required vaccines and treatments, a state-issued rabies tag, and/or a state health certificate, provided that the state vaccination requirements for the state health certificate mirror those established by the superintendent.

To protect park resources and the safety of visitors, the proposed rule would subject the use of service animals to certain standard rules that also govern pets. Service animals may not be left unattended, may not make unreasonable noise or exhibit aggressive behavior, and handlers must comply with excrement disposal conditions established by the superintendent. Service animals must be under control at all times while in the park. Acceptable means of restraint would include a harness, leash, or tether. However, the NPS acknowledges that in some instances, a disability may limit a person's ability to exert physical control of a service animal. Further, some devices may interfere with the service animal's safe, effective performance of its work or tasks. In these cases, voice commands, signals, or other effective means would be required to control the service animal while it is performing its work or tasks.

Law Enforcement and Emergency Service Dogs

The proposed rule would retain the current exception authorizing dog use by law enforcement officers and also allows a park superintendent to authorize dog use for search or recovery operations.

Service Animals in Training

Service animals in training are not yet trained, and thus do not meet the legal definition of service animal. To protect park resources and the safety of park visitors, the rule would restrict the use of service animals in training to areas that are also open to pets.

Miniature Horses

Miniature horses are not included in the DOJ definition of service animal, but they were included in the authorizing section of the DOJ regulations for service animals. The DOJ regulations require that an entity shall make “reasonable modifications in policies, practices, or procedures to permit the use of a miniature horse by an individual with a disability if the miniature horse has been individually trained to do work or perform tasks for the benefit of the individual with a disability.” (28 CFR 35.136(i)(1) and 36.302(c)(9)(i)). Under this proposed rule, the superintendent may permit the use of a miniature horse by an individual with a disability in accordance with the assessment factors outlined in the DOJ regulations at 28 CFR 35.136(i)(2) and 36.302(c)(9)(ii). The use of miniature horses would be subject to the same requirements that govern the use of service animals.

Proposed Revisions to 36 CFR 7.28 and 7.38

Two units of the National Park System, Olympic National Park and Isle Royale National Park have park-specific special regulations that use the term “guide dog.” Olympic National Park is proposing to drop its current regulation on dogs and cats in favor of regulating where visitors may take these animals and service animals under the proposed service-wide rule.

Isle Royale National Park is an isolated island whose wilderness ecology is defined through predator-prey systems. There, concerns that nonnative mammals (and in particular those which might be brought as pets) could alter those systems by transmitting disease to the wild canids of the park (the Eastern Timber Wolf and the Red Fox), led to a regulatory prohibition. (42 FR 21777). That prohibition excepted “guide dogs accompanying the blind.” Isle Royale is proposing to retain the general prohibition on mammals and to replace the guide dog exception with the proposed service-wide definition and § 2.15(b) provision for service animals.

Compliance With Other Laws, Executive Orders, and Department Policy

Regulatory Planning and Review (Executive Orders 12866 and 13563)

Executive Order 12866 provides that the Office of Information and Regulatory Affairs (OIRA) in the Office of Management and Budget will review all significant rules. OIRA has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Regulatory Flexibility Act (RFA)

This rule will not have a significant economic effect on a substantial number of small entities under the RFA (5 U.S.C. 601 et seq.)

Small Business Regulatory Enforcement Fairness Act (SBREFA)

This rule is not a major rule under 5 U.S.C. 804(2), the SBREFA. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act (UMRA)

This rule does not impose an unfunded mandate on State, local, or tribal governments or the private sector of more than $100 million per year. The rule does not have a significant or unique effect on State, local or tribal governments or the private sector. It addresses public use of national park lands, and imposes no requirements on other agencies or governments. A statement containing the information required by the UMRA (2 U.S.C. 1531 et seq.) is not required.

Takings (Executive Order 12630)

This rule does not affect a taking of private property or otherwise have taking implications under Executive Order 12630. A takings implication assessment is not required.

Federalism (Executive Order 13132)

Under the criteria in section 1 of Executive Order 13132, the rule does not have sufficient federalism implications to warrant the preparation of a Federalism summary impact statement. This proposed rule only affects use of NPS administered lands and waters. It has no outside effects on other areas. A Federalism summary impact statement is not required.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian tribes through a commitment to consultation with Indian tribes and recognition of their right to self-governance and tribal sovereignty. We have evaluated this rule under the Department's consultation policy and under the criteria in Executive Order 13175 and have determined that it has no substantial direct effects on federally recognized Indian tribes and that consultation under the Department's tribal consultation policy is not required.

Paperwork Reduction Act (PRA) (44 U.S.C. 3501 et seq.)

This rule does not contain information collection requirements. The Paperwork Reduction Act's implementing regulations define “information” as “statement or estimate of fact or opinion, regardless of form or format, whether in numerical, graphic, or narrative form, and whether oral or maintained on paper, electronic or other media.” 5 CFR 1320.3(h). However, “information” does not include “facts or opinions obtained through direct observation by an employee or agent of the sponsoring agency or through nonstandardized oral communication in connection with such direct observations.” 5 CFR 1320.3(h)(3) (italics added). In the proposed rule, an authorized person may need to determine a number of facts, such as the tasks that a service animal is able to perform (2.15(b)(1)(i), 2.15(b)(3)(iii)); the type, size, and weight of the animal (2.15(d)(i)(A)); and whether the animal is housebroken. These facts will be determined by the authorized person via direct observation of the animal. Because these facts are obtained through direct observation, they are not considered information for the purposes of the PRA, and a submission to the Office of Management and Budget under the PRA is not required. We may not conduct or sponsor and you are not required to respond to a collection of information unless it displays a currently valid OMB control number.

National Environmental Policy Act (NEPA)

This rule does not constitute a major Federal action significantly affecting the quality of the human environment. A detailed statement under the NEPA of 1969 is not required because the rule is covered by a categorical exclusion. This rule is excluded from the requirement to prepare a detailed statement because it is a regulation of administrative, legal, and technical nature (43 CFR 46.210(i)). We have also determined that the rule does not involve any of the extraordinary circumstances listed in 43 CFR 46.215 that would require further analysis under NEPA.

Effects on the Energy Supply (Executive Order 13211)

This rule is not a significant energy action under the definition in Executive Order 13211. A Statement of Energy Effects in not required.

Clarity of This Rule

We are required by Executive Orders 12866 (section 1(b)(12)) and 12988 (section 3(b)(1)(B)) and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

Drafting Information: The primary author of this rule is C. Rose Wilkinson, National Park Service, Regulations and Special Park Uses, Washington, DC.

Public Participation

It is the policy of the Department of the Interior, whenever practicable, to afford the public an opportunity to participate in the rulemaking process. Accordingly, interested persons may submit written comments regarding this proposed rule by one of the methods listed in the ADDRESSES section. All comments must be received by midnight of the close of the comment period. Bulk comments in any format (hard copy or electronic) submitted on behalf of others will not be accepted.

Public Availability of Comments

Before including your address, phone number, email address, or other personal identifying information in your comment, you should be aware that your entire comment—including your personal identifying information—may be made publicly available at any time. While you can ask us in your comment to withhold your personal identifying information from public review, we cannot guarantee that we will be able to do so.

List of Subjects

36 CFR Part 1

National parks, Penalties, Reporting and recordkeeping requirements, Signs and symbols.

36 CFR Part 2

Environmental protection, National parks, Reporting and recordkeeping requirements.

36 CFR Part 7

National parks, Reporting and recordkeeping requirements.

In consideration of the foregoing, the National Park Service proposes to amend 36 CFR Parts 1, 2, and 7 as set forth below:

PART 1—GENERAL PROVISIONS

1. Revise the authority citation for Part 1 to read as follows:

Authority: 16 U.S.C. 1, 3, 9a, 460 1-6a(e), 462(k); DC Code 10-137 (2001), 50-2201 (2001).

2. In § 1.4 amend paragraph (a) by:

A. Adding the terms “Disability”, “Domestic animal”, “Feral animal”, “Livestock”, and “Service animal”

B. Revising the terms “Pack animal” and “Pet”

The additions and revisions to read as follows:

§ 1.4 What terms do I need to know?

(a) * * *

Disability means a physical or mental impairment that substantially limits one or more of the major life activities of an individual.

* * * * *

Domestic animal means an animal that has been tamed to live in the human environment.

* * * * *

Feral animal means a domestic animal that is existing in a wild or untamed state.

* * * * *

Livestock means any domestic animal raised for the production of food or other agricultural-based consumer products.

* * * * *

Pack animal means any domestic animal designated as a pack animal by the superintendent and used to transport people or equipment on designated routes.

* * * * *

Pet means any domestic animal that is not a service animal, pack animal, or livestock.

* * * * *

Service animal means any dog that has been individually trained to do work or perform tasks for the benefit of an individual with a disability, including a physical, sensory, psychiatric, intellectual, or other mental disability. Other species of animals, whether wild or domestic, trained or untrained, are not service animals for purposes of this definition.

* * * * *

PART 2—RESOURCE PROTECTION, PUBLIC USE AND RECREATION

3. The authority citation for Part 2 continues to read as follows:

Authority: 16 U.S.C. 1, 3, 9(a), 462(k).

4. Revise § 2.15 to read as follows:

§ 2.15 Pets and service animals.

(a) Pets. (1) Pets are not allowed in public buildings, public transportation vehicles, any location designated as a swimming beach, or any area the superintendent has closed to the possession of pets.

(2) Pets must be crated, caged, restrained with a leash no longer than six feet in length, or otherwise physically confined at all times.

(3) The following are prohibited: (i) Leaving an unattended pet tied to an object, except in designated areas or under conditions which may be established by the superintendent;

(ii) Allowing a pet to exhibit aggressive behavior or make noise such as barking or howling that is unreasonable considering location, time of day or night, impact on park users and other relevant factors, or that frightens wildlife; or

(iii) Failing to comply with pet excrement disposal conditions which may be established by the superintendent.

(4) Pets may be kept by residents of park areas consistent with the provisions of this section and in accordance with conditions which may be established by the superintendent.

(5) In park areas where hunting is allowed, dogs may be used in support of these activities in accordance with applicable Federal and State laws and in accordance with conditions which may be established by the superintendent.

(6) This paragraph does not apply to the use of dogs by authorized Federal, State, and local law enforcement officers, or emergency personnel authorized by the superintendent.

(b) Service animals. (1) A service animal may accompany an individual with a disability in a park area where members of the public are allowed or may accompany an employee with a disability in a park area where employees are allowed.

(i) The work or tasks the service animal is trained to perform must be directly related to the individual's disability. In making this determination, an authorized person may observe the animal and ask if the animal is required because of a disability and what work or task the animal has been trained to perform. Authorized persons must not ask about the nature or extent of a person's disability, nor may they require documentation of the disability or proof that the animal has been certified, trained, or licensed as a service animal.

(ii) The crime-deterrent effects of an animal's presence and the provision of emotional support, well-being, comfort, or companionship do not constitute work or tasks for the purposes of this provision.

(2) A service animal must be controlled at all times with a harness, leash, or other tether, unless the restraint device would interfere with the service animal's safe, effective performance of work or tasks or the individual's disability prevents using these devices. In those cases, the disabled individual must be able to recall the service animal to his or her side promptly using voice, signals, or other effective means of control. This must be demonstrated when requested by an authorized person.

(3) An individual may be asked to remove a service animal from an area closed to pets if:

(i) The animal is out of control and the animal's handler does not take effective action to control it;

(ii) The animal is not housebroken; or

(iii) It is not readily apparent and the individual with a disability is unwilling or unable to articulate or demonstrate the work or task the animal has been trained to perform, consistent with paragraph (b)(1)(i) of this section.

(4) The prohibitions in paragraph (a)(3) of this section also apply to the use of a service animal.

(5) Upon determining that the use of service animals in a specific area poses a threat to the health or safety of people or wildlife, the superintendent may require proof of current vaccinations, impose additional conditions or restrictions, or close the area to service animals. Any area closed to service animals must be closed to pets. In determining whether the use of service animals poses a threat under this paragraph, the superintendent must:

(i) Make a written determination based on objective evidence evaluating the nature, probability, duration, and severity of the threat; and

(ii) Explain in the written determination why less restrictive measures will not suffice.

(c) Service animals in training. Service animals in training are regulated as pets under the conditions in paragraph (a) of this section.

(d) Miniature horses. (1) The superintendent may allow the use of a miniature horse by an individual with a disability if the miniature horse has been trained to do work or perform tasks for the benefit of the individual with a disability and after observing and assessing the following factors:

(i) The type, size, and weight of the miniature horse and whether the facility can accommodate these features;

(ii) Whether the handler has sufficient control of the miniature horse;

(iii) Whether the miniature horse is housebroken; and

(iv) Whether the miniature horse's presence in a specific facility compromises legitimate safety requirements that are necessary for safe operation.

(2) If authorized by the superintendent, miniature horses are regulated in the same manner as service animals under the conditions in paragraph (b)(1) through (4) of this section.

(e) Animals running at large. (1) Domestic or feral animals running at large may be impounded, and the owner of a domestic animal may be charged reasonable fees for kennel or boarding costs, feed, veterinarian fees, transportation costs, and disposal. An impounded animal may be put up for adoption or otherwise disposed of after being held for 72 hours from the time the owner was notified of capture or 72 hours from the time of capture if the owner is unknown.

(2) Domestic or feral animals running at large and observed by an authorized person in the act of killing, injuring, or molesting humans or domestic animals or taking wildlife may be destroyed if necessary for public safety or protection of wildlife, domestic animals, including livestock, or other park resources.

(3) This paragraph (e) does not apply to livestock, which are governed by § 2.60 of this chapter.

(f) Violating a closure, condition, or restriction established by the superintendent under this section is prohibited.

PART 7—SPECIAL REGULATIONS, AREAS OF THE NATIONAL PARK SYSTEM

5. The authority for Part 7 continues to read as follows:

Authority: 16 U.S.C. 1, 3, 9a, 462(k); Sec. 7.96 also issued under 36 U.S.C. 501-511, DC Code 10-137 (2001) and DC Code 50-2201.07 (2001).

6. In § 7.28, remove and reserve paragraph (c) to read as follows:

§ 7.28 Olympic National Park.

* * * * *

(c) [Reserved]

* * * * *

7. In § 7.38 revise paragraph (c) to read as follows:

§ 7.38 Isle Royale National Park.

* * * * *

(c) Mammals. Dogs, cats, and other mammals may not be brought into or possessed in the park area, except for service animals under § 2.15(b) of this chapter.

Dated: March 14, 2014.
Michael Bean,
Acting Principal Deputy Assistant Secretary, for Fish and Wildlife and Parks.

[FR Doc. 2014-08563 Filed 4-17-14; 8:45 am]

BILLING CODE 4312-EJ-P